OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 6.6 and 213.103.

FOR FURTHER INFORMATION CONTACT: C. Penn, Group Manager, Executive Resources Services Group, Center for Human Resources, Division for Human Capital Leadership and Merit System Accountability, 202-606-2246.

SUPPLEMENTARY INFORMATION: Appearing in the listing below are the individual authorities established under Schedules A, B, and C between August 1, 2007, and August 31, 2007. Future notices will be published on the fourth Tuesday of each month, or as soon as possible thereafter. A consolidated listing of all authorities as of June 30 is published each year.

Schedule A

No Schedule A appointments were approved for August 2007.

Schedule B

No Schedule B appointments were approved for August 2007.

Schedule C

The following Schedule C appointments were approved during August 2007.

Section 213.3303 Executive Office of the President

Office of Management and Budget

BOGS70019 Director of Scheduling to the Director Office of Management and Budget. Effective August 01, 2007.

BOGS70018 Legislative Analyst to the Associate Director for Legislative Affairs. Effective August 03, 2007.

Office of National Drug Control Policy

QQGS70012 Policy Analyst to the Deputy Director for State and Local Affairs. Effective August 17, 2007.

QQGS70013 Confidential Assistant to the Chief of Staff. Effective August 22, 2007.

Office of the United States Trade Representative

TNGS70006 Public Affairs Specialist to the Assistant US Trade Representative for Public and Media Affairs. Effective August 14, 2007.

Section 213.3304 Department of State

DSGS61245 Legislative Management Officer to the Assistant Secretary for Legislative and Intergovernmental Affairs. Effective August 03, 2007.

DSGS61247 Staff Assistant to the Assistant Secretary for Economic and Business Affairs. Effective August 03, 2007.

DSGS61248 Special Assistant to the Under Secretary for Economic Affairs. Effective August 03, 2007.

DSGS61249 Staff Assistant to the Assistant Secretary for International Organizational Affairs. Effective August 03, 2007.

DSGS61246 Staff Assistant to the Director, Policy Planning Staff. Effective August 17, 2007.

DSGS61250 Special Assistant to the Assistant Secretary. Effective August 17, 2007.

DSGS61251 Staff Assistant to the Director, Policy Planning Staff. Effective August 17, 2007.

Section 213.3305 Department of the Treasury

DYGS00461 Senior Advisor to the Assistant Secretary (Tax Policy). Effective August 07, 2007.

DYGS60390 Senior Advisor to the Assistant Secretary (Management) and Chief Financial Officer. Effective August 13, 2007.

DYGS00420 Special Assistant to the Assistant Secretary (Deputy Under Secretary) for Legislative Affairs. Effective August 20, 2007.

DYGS60307 Senior Advisor to the Treasurer of the United States. Effective August 20, 2007.

DYGS00447 Senior Advisor to Under Secretary for Terrorism and Financial Crimes. Effective August 22, 2007.

DYGS00499 Deputy Chief of Staff for External Affairs to the Chief of Staff for External Affairs. Effective August 28, 2007.

DYGS00500 Scheduler to the Treasurer of the United States. Effective August 30, 2007.

Section 213.3306 Department of Defense

DDGS17077 Defense Fellow to the Special Assistant to the Secretary of Defense for White House Liaison. Effective August 01, 2007.

DDGS17079 Special Assistant to the Assistant Secretary of Defense (International Security Affairs). Effective August 08, 2007.

DDGS17089 Public Affairs Specialist to the Assistant Secretary of Defense Public Affairs. Effective August 13, 2007.

DDGS17082 Special Assistant to the Secretary of Defense for White House Liaison. Effective August 15, 2007.

DDGS17085 Public Affairs Specialist to the Assistant Secretary of Defense Public Affairs. Effective August 15, 2007.

DDGS17084 Public Affairs Specialist to the Assistant Secretary of Defense Public Affairs. Effective August 16, 2007.

DDGS17078 Defense Fellow to the Special Assistant to the Secretary of Defense for White House Liaison. Effective August 17, 2007.

DDGS17081 Defense Fellow to the Special Assistant to the Secretary of Defense for White House Liaison. Effective August 23, 2007.

DDGS17087 Staff Assistant to the Assistant Secretary of Defense (Special Operations/Low Intensity Conflict and Interdependent Capabilities). Effective August 24, 2007.

DDGS17091 Staff Assistant to the Principal Deputy to the Deputy Under Secretary of Defense (Asian and Pacific Security Affairs). Effective August 24, 2007.

DDGS17093 Staff Assistant to the Deputy Assistant Secretary of Defense (Near East and South Asian Affairs). Effective August 24, 2007.

DDGS17098 Defense Fellow to the Special Assistant to the Secretary of Defense for White House Liaison. Effective August 24, 2007.

DDGS17086 Supervisory Speechwriter to the Assistant Secretary of Defense Public Affairs. Effective August 31, 2007.

DDGS17090 Special Assistant to the Assistant Secretary of Defense (Legislative Affairs). Effective August 31, 2007.

DDGS17099 Public Affairs Specialist to the Assistant Secretary of Defense Public Affairs. Effective August 31, 2007.

Section 213.3307 Department of the Army

DWGS60064 Personal and Confidential Assistant to the Principal Deputy Assistant Secretary of the Army (Manpower and Reserve Affairs)/Deputy Assistant Secretary (Training, Readiness and Mobilization). Effective August 06, 2007.

DWGS00088 Personal and Confidential Assistant to the General Counsel. Effective August 29, 2007.

Section 213.3308 Department of the Navy

DNGS07300 Confidential Assistant to the Assistant Secretary of the Navy (Financial Management and Comptroller). Effective August 24, 2007.

DNGS07343 Special Assistant to the Secretary of the Navy. Effective August 24, 2007.

Section 213.3310 Department of Justice

DJGS00207 Public Affairs Specialist to the Director of the Violence Against Women Office. Effective August 1, 2007.

DJGS00100 Deputy Director to the Director, Office of Public Affairs. Effective August 3, 2007.

DJGS00071 Press Assistant to the Deputy Director. Effective August 10, 2007.

DJGS00119 Senior Advisor to the Assistant Attorney General, Office of Justice Programs. Effective August 10, 2007.

DJGS00341 Special Assistant to the Attorney General to the Chief of Staff. Effective August 16, 2007.

DJGS00179 Counsel to the Principal Deputy Assistant Attorney General. Effective August 30, 2007.

DJGS00262 Special Counsel on Voting Matters to the Assistant Attorney General. Effective August 30, 2007.

DJGS00311 Counsel to the Principal Associate Deputy Attorney General. Effective August 31, 2007.

DJGS00358 Special Assistant and Counsel to the Principal Deputy Assistant Attorney General. Effective August 31, 2007.

Section 213.3311 Department of Homeland Security

DMGS00692 Director of Legislative Affairs, Immigration and Customs Enforcement to the Assistant Secretary, Immigration and Customs Enforcement. Effective August 1, 2007.

DMGS00688 Legislative Assistant to the Assistant Secretary for Legislative Affairs. Effective August 7, 2007.

DMGS00696 Assistant Director of Legislative Affairs to the Assistant Secretary for Legislative Affairs. Effective August 10, 2007.

DMGS00697 Special Assistant to the Director, Office of Screening Coordination. Effective August 10, 2007.

DMGS00699 Director, Homeland Security Council/National Security Council/White House Actions and Interagency Coordinator to the Executive Secretary. Effective August 10, 2007.

DMGS00700 Advance Representative to the Director of Scheduling and Advance. Effective August 10, 2007.

DMGS00695 Confidential Legal Assistant to the General Counsel. Effective August 14, 2007.

DMGS00701 Component Liaison and Correspondence Analyst to the Executive Secretary. Effective August 17, 2007.

DMGS00702 Special Assistant to the Deputy Secretary of the Department of Homeland Security. Effective August 17, 2007.

DMGS00703 Advisor to the Director to the Deputy Chief of Staff. Effective August 17, 2007.

DMGS00704 Advisor to the Secretary to the Chief of Staff. Effective August 17, 2007.

DMGS00705 White House Liaison to the Chief of Staff. Effective August 17, 2007.

DMGS00706 Confidential Assistant to the White House Liaison and Advisor. Effective August 17, 2007.

DMGS00698 Associate Director of Strategic Communications to the Director of Strategic Communications. Effective August 21, 2007.

DMGS00709 Special Assistant to the Commissioner to the Chief of Staff. Effective August 28, 2007.

DMGS00710 International Policy Analyst to the Under Secretary for Science and Technology. Effective August 28, 2007.

DMGS00711 Special Assistant to the Executive Director, Homeland Security Advisory Committees. Effective August 28, 2007.

DMGS00707 Special Assistant to the Director, Office of National Capital Region Coordination. Effective August 30, 2007.

Section 213.3312 Department of the Interior

DIGS01107 Special Assistant to the Chief of Staff. Effective August 21, 2007.

Section 213.3313 Department of Agriculture

DAGS00915 Staff Assistant to the Under Secretary for Research, Education and Economics. Effective August 14, 2007.

DAGS00916 Deputy Director of Advance to the Director of Communications. Effective August 16, 2007.

DAGS00918 Staff Assistant to the Director of Legislative and Public Affairs. Effective August 23, 2007.

DAGS09053 State Director—West Virginia to the Under Secretary for Rural Development. Effective August 31, 2007.

Section 213.3314 Department of Commerce

DCGS60342 Deputy Director to the Director, Office of White House Liaison. Effective August 03, 2007.

DCGS00160 Confidential Assistant to the Director, Advocacy Center. Effective August 17, 2007.

DCGS00446 Chief of Staff and Senior Advisor to the Under Secretary of Commerce for Industry and Security. Effective August 21, 2007.

DCGS60393 Legislative Affairs Specialist to the Assistant Secretary for Legislative and Intergovernmental Affairs. Effective August 22, 2007.

DCGS00317 Deputy Director of Advisory Committees to the Director of Advisory Committees. Effective August 30, 2007.

DCGS60494 Deputy Press Secretary to the Director of Public Affairs. Effective August 30, 2007.

DCGS60575 Confidential Assistant to the Deputy Assistant Secretary for Europe. Effective August 31, 2007.

Section 213.3315 Department of Labor

DLGS60154 Senior Intergovernmental Officer to the Assistant Secretary for Congressional and Intergovernmental Affairs. Effective August 01, 2007.

DLGS60011 Staff Assistant to the Director, 21st Century Office and Deputy Assistant Secretary for Intergovernmental Affairs. Effective August 07, 2007.

DLGS60246 Director of Events to the Director of Scheduling. Effective August 07, 2007.

DLGS60144 Staff Assistant to the Director, 21st Century Office and Deputy Assistant Secretary for Intergovernmental Affairs. Effective August 09, 2007.

DLGS60197 Legislative Officer to the Assistant Secretary for Congressional and Intergovernmental Affairs. Effective August 21, 2007.

DLGS60224 Special Assistant to the Assistant Secretary for Mine Safety and Health. Effective August 28, 2007.

DLGS60101 Chief of Staff to the Assistant Secretary for Public Affairs. Effective August 29, 2007.

Section 213.3316 Department of Health and Human Services

DHGS60061 Confidential Assistant to the Director of Public Affairs. Effective August 03, 2007.

DHGS60528 Confidential Assistant (Scheduling) to the Director of Scheduling. Effective August 09, 2007.

DHGS60015 Deputy Director, Center for Faith Based and Community Initiatives to the Director, Center for Faith Based and Community Initiatives. Effective August 13, 2007.

DHGS60049 Senior Advisor to the Assistant Secretary, Health. Effective August 14, 2007.

DHGS60014 Director (Office of Document and Regulations Management) to the Executive Secretary to the Department. Effective August 28, 2007.

DHGS60063 Confidential Assistant to the Director of Public Affairs. Effective August 28, 2007.

DHGS60681 Confidential Assistant to the Director of Media Affairs. Effective August 28, 2007.

DHGS60064 Special Assistant to the Assistant Secretary for Children and Families. Effective August 30, 2007.

DHGS60527 Confidential Assistant (Scheduling) to the Director of Scheduling. Effective August 30, 2007.

Section 213.3317 Department of Education

DBGS00629 Confidential Assistant to the Special Assistant. Effective August 1, 2007.

DBGS00633 Confidential Assistant to the Assistant Secretary, Office of Communications and Outreach. Effective August 8, 2007.

DBGS00630 Special Assistant to the Chief of Staff. Effective August 9, 2007.

DBGS00631 Special Assistant to the Deputy Assistant Secretary. Effective August 14, 2007.

DBGS00634 Confidential Assistant to the General Counsel. Effective August 16, 2007.

DBGS00624 Confidential Assistant to the Assistant Secretary for Postsecondary Education. Effective August 17, 2007.

DBGS00632 Deputy Assistant Secretary for External Affairs and Outreach Services to the Assistant Secretary, Office of Communications and Outreach. Effective August 17, 2007.

DBGS00635 Special Assistant to the Chief of Staff. Effective August 28, 2007.

DBGS00640 Deputy Secretary's Regional Representative to the Assistant Secretary, Office of Communications and Outreach. Effective August 30, 2007.

Section 213.3318 Environmental Protection Agency

EPGS07017 Program Manager (Operations) to the Deputy Chief of Staff (Operations). Effective August 1, 2007.

EPGS06036 Supervisory Public Affairs Specialist to the Associate Administrator for Public Affairs. Effective August 9, 2007.

EPGS07019 Program Advisor to the Associate Administrator for Public Affairs. Effective August 9, 2007.

Section 213.3330 Securities and Exchange Commission

SEOT60103 Legislative and Intergovernmental Affairs Specialist to the Director of Legislative Affairs. Effective August 16, 2007.

Section 213.3331 Department of Energy

DEGS00605 Senior Policy Advisor to the Assistant Secretary for Fossil Energy. Effective August 6, 2007.

DEGS00608 Special Assistant to the Chief Financial Officer. Effective August 17, 2007.

DEGS00610 Assistant Press Secretary to the Director, Public Affairs. Effective August 28, 2007.

DEGS00609 Special Assistant to the Director, Office of Electricity Delivery and Energy Reliability. Effective August 30, 2007.

DEGS00611 Policy Advisor to the Deputy Assistant Secretary. Effective August 30, 2007.

DEGS00615 Special Assistant to the Deputy Director, Permitting, Siting and Analysis Division. Effective August 31, 2007.

Section 213.3332 Small Business Administration

SBGS00618 Special Assistant to the National Ombudsman and Assistant Administrator for Regulatory Enforcement Fairness. Effective August 7, 2007.

Section 213.3337 General Services Administration

GSGS60078 Special Assistant to the Regional Administrator National Capital Region. Effective August 7, 2007.

GSGS60120 Senior Communications Advisor to the Deputy Associate Administrator for Communications. Effective August 21, 2007.

GSGS60121 Chief of Staff to the Chief Acquisition Officer. Effective August 21, 2007.

GSGS60117 Senior Advisor to the Associate Administrator for Citizen Services and Communications. Effective August 24, 2007.

Section 213.3348 National Aeronautics and Space Administration

NNGS00200 Executive Assistant to the Chief of Staff. Effective August 13, 2007.

Section 213.3355 Social Security Administration

SZGS00019 Senior Advisor to the Deputy Commissioner for Legislation and Congressional Affairs. Effective August 9, 2007.

Section 213.3373 Trade and Development Agency

TDGS60001 Executive Assistant to the Director. Effective August 23, 2007.

Section 213.3379 Commodity Futures Trading Commission

CTOT00091 Chief Economist to the Chairperson. Effective August 31, 2007.

Section 213.3394 Department of Transportation

DTGS60341 Associate Director for Governmental Affairs to the Deputy Assistant Secretary for Governmental Affairs. Effective August 1, 2007.

DTGS60373 Director of Governmental Affairs to the Administrator. Effective August 30, 2007.

Authority: 5 U.S.C. 3301 and 3302; E.O. 10577, 3 CFR 1954-1958 Comp., p. 218.

U.S. Office of Personnel Management.
Howard Weizmann,
Deputy Director.

[FR Doc. 07-5016 Filed 10-10-07; 8:45 am]

BILLING CODE 6325-39-M